DEPARTMENT OF LABOR

Office of the Secretary; President's Committee on the International Labor Organizations; Notice of Closed Meeting

In accordance with Section 10(a) of the Federal Advisory Committee Act (Public Law 92-463), announcement is hereby given of a meeting of the President's Committee on the ILO:

Name: President's Committee on the International Labor Organization.

Date: Tuesday, May 16, 2000.

Time: 2 p.m.

Place: U.S. Department of Labor, Third & Constitution Ave., N.W., Room S-2508, Washington, D.C. 20210.

Purpose: The meeting will include a review and discussion of current issues relating to United States' negotiating positions with member nations of the International Labor Organization. The meeting will concern matters the disclosure of which would seriously compromise the Government's negotiating objectives and bargaining positions. Accordingly, the meeting will be closed to the public, pursuant to Section 10(d) of the Federal Advisory Committee Act and Section 9(B) of the Government in the Sunshine Act, 5 U.S.C. 552b(c)(9)(B).

FOR FURTHER INFORMATION CONTACT: Mr. Andrew J. Samet, President's Committee on the International Labor Organization, U.S. Department of Labor, 200 Constitution Avenue, N.W., Room S-2235, Washington, D.C. 20210, Telephone (202) 693-4770.

Signed at Washington, DC this 1st day of May, 2000.
Alexis M. Herman,
Secretary of Labor.

[FR Doc. 00-11154 Filed 5-3-00; 8:45 am]

BILLING CODE 4510-23-M